DEPARTMENT OF AGRICULTURE

Forest Service

Clancy-Unionville Vegetation Manipulation and Travel Management Project; Including Timber Harvest, Prescribed Fire, and Noxious Weed Control Activities. Helena National Forest, Lewis & Clark and Jefferson Counties, MT

AGENCY: Forest Service, USDA.

ACTION: Notice; intent to prepare Supplement to Environmental Impact Statement.

SUMMARY: The NOI to prepare an Environmental Impact Statement for this project was published in the October 17, 1997 issue of the Federal Register. The FEIS was released to the public in February 2000. A Record of Decision was issued in November, 2000, but was subsequently reversed on appeal due to insufficient cumulative effects analysis. At this time, the Helena National Forest is soliciting comments which would help to identify past, ongoing, or reasonably foreseeable activities which could reasonably interact cumulatively with the activities considered with the Clancy-Unionville Vegetation Manipulation and Travel Management Project. The agency will use the information received in conjunction with other compiled information to develop the Draft Supplement EIS. A 45-day comment period will provide, and all comments will be used to develop a Final Supplemental EIS.

ADDRESSES: The responsible official is Thomas J. Clifford, Forest Supervisor, Helena National Forest, Supervisor's Office, 2880 Skyway Drive, Helena, MT. 59602, Phone: (406) 449-5201.

FOR FURTHER INFORMATION CONTACT: Jerry Meyer, Interdisciplinary Team, Leader, Helena National Forest, Supervisor's Office, 2880 Skyway Drive, Helena, MT. 59602, Phone: (406) 446-5201, extension 278.

Dated: April 24, 2001.
Thomas J. Clifford,
Forest Supervisor, Helena National Forest.

[FR Doc. 01-11447 Filed 5-7-01; 8:45 am]

BILLING CODE 3410-11-M